DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 28, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Repayment Demand and Program Disqualification.

OMB Control Number: 0584-0492.

Summary of Collection: This information collection request is associated with initiating collection actions against households who received an over issuance in the Supplemental Nutrition Assistance Program (SNAP), issuing notifications to SNAP households regarding processes related to intentional program violations (IPV), and using disqualified recipient data to ascertain the correct penalty for IPVs, based on prior disqualifications.

Section 13(b) of the Food and Nutrition Act of 2008, as amended (7 U.S.C. 2022(b)), and SNAP regulations at 7 CFR 273.18(a)(2) require State agencies to initiate collection action against households that have been overissued benefits. To initiate collection action, State agencies must provide the affected household with written notification informing the household of the claim and demanding repayment. This process is automated in most State agencies.

SNAP regulations at 7 CFR 273.16(a)(1) require State agencies to investigate any case of suspected fraud and, where applicable, make an IPV determination either administratively or judicially. This activity is vital to protect and enhance the integrity of SNAP.

SNAP regulations at 7 CFR 273.16(i)(4) require State agencies to use disqualified recipient data to ascertain the correct penalty for IPVs, based on prior disqualifications.

Electronic Disqualified Recipient System (eDRS) for Accessing, Reviewing, and Updating Disqualified Recipient Data—SNAP regulations at 7 CFR 273.16(i)(4) require State agencies to use disqualified recipient data to ascertain the correct penalty for IPVs, based on prior disqualifications. State agencies determine this by accessing and reviewing records located in the Electronic Disqualified Recipient System (eDRS). eDRS is an automated system developed by the Food and Nutrition Service (FNS) that contains records of disqualifications in every State. State agencies are also responsible for updating the system, as required at 273.16(i)(2)(i), which includes reporting disqualifications in eDRS as they occur and updating eDRS when records are no longer accurate, relevant, or complete.

Retention of records. Each State agency shall retain all Program records in an orderly fashion for audit and review purposes for no less than 3 years from the month of origin of each record. In addition:

Case records relating to intentional Program violation disqualifications and related notices to the household shall be retained indefinitely until the State agency obtains reliable information that the record subject has died or until FNS advises via the disqualified recipient database system edit report that all records associated with a particular individual, including the disqualified recipient database record, may be permanently removed from the database because of the individual's 80th birthday.

Disqualification records submitted to the disqualified recipient database must be purged by the State agency that submitted them when the supporting documents are no longer accurate, relevant, or complete. The State agency shall follow a prescribed records management program to meet this requirement. Information about this program shall be available for FNS review.

Need and Use of the Information: Initiating Collection Action—The notification must conform to the requirements of 7 CFR 273.18(e)(3)(iv) to include the data The amount of the claim, the intent to collect from all adult household members, the type of and reason for the claim, the time period associated with the claim, how the claim was calculated, a listing of payment procedures and applicable options, a listing of appeal and due process rights, and listing of actions that may be taken if the claim is not timely paid.

Intentional Program Violations (IPV)—A State agency may determine an IPV by the individual accepting the penalty by signing a waiver of right to an administrative disqualification hearing (ADH), the individual signing a disqualification consent agreement in cases of deferred adjudication, or an administrative hearing official or a court of appropriate jurisdiction determining that the individual committed the IPV.

SNAP regulations at 7 CFR 273.16(e)(3) require that State agencies provide written notification of an impending ADH to the individual suspected of committing an IPV. The notification contains an explanation of the charge against the individual, the potential penalties, and a listing of the rights and options afforded to the individual. A similar notification is sent to individuals who are being prosecuted through the court.

In some State agencies, one of the options available to the individual under 7 CFR 273.16(f)(2) is the ability for the individual to waive the right to an ADH and accept the disqualification penalty. The disqualification waiver may be included in the advance notification or provided as a separate attachment for the individual to sign and submit to avoid having the ADH. Similarly, under 7 CFR 273.16(h)(2), State agencies may establish procedures to provide the accused individual with the option to consent to a Program disqualification to avoid criminal prosecution.

Once a determination is made regarding an IPV, the State agency must send notification to the affected individual of the action taken on the ADH or court decision, as required at 7 CFR 273.16(e)(9). This includes notifying the person that he/she will be disqualified and when the disqualification will become effective. One of the factors used by a State agency to determine the appropriate disqualification penalty to assign to an individual is whether or not the individual was found to have committed any prior IPVs. The way that State agencies determine this is by accessing and checking eDRS. eDRS is an automated system developed by FNS that contains records of disqualifications in every State. Per 7 CFR 273.16(i)(4) State agencies are responsible for checking eDRS to determine the appropriate length of each disqualification.

7 CFR 273.16(i)(2)(i) requires State agencies to update the eDRS system, which includes reporting disqualifications as they occur and removing records which are no longer accurate, relevant, or complete. States have a choice between using a batch process for correcting and resubmitting data or submitting data directly through the eDRS website. Data entry errors are identified at the point of entry and corrections can be made immediately.

Description of Respondents: State Agencies and Individuals.

Number of Respondents: 486,769.

Frequency of Responses: Recordkeeping; Reporting: Occasionally; Annually.

Total Burden Hours: 99,786.9643.

Rachelle Ragland-Greene,
Departmental Information Collection Clearance Officer.

[FR Doc. 2024-16592 Filed 7-26-24; 8:45 am]

BILLING CODE 3410-30-P